DEPARTMENT OF DEFENSE

Department of the Navy

Notice of National Oceanographic Partnership Program Ocean Research Advisory Panel Meeting

AGENCY: Department of the Navy, DOD.

ACTION: Notice.

SUMMARY: The Ocean Research Advisory Panel (ORAP) will meet to discuss National Oceanographic Partnership Program (NOPP) activities. This meeting will be open to the public.

DATES: The meeting will be held on Tuesday, October 3, 2000, from 8:30 a.m. to 4:30 p.m.

ADDRESSES: The meeting will be held at the Carnegie Endowment, Choate Room, 1779 Massachusetts Avenue, NW, Washington DC.

FOR FURTHER INFORMATION CONTACT: Dr. Steven E. Ramberg, Office of Naval Research, 800 North Quincy Street, Arlington, VA 22217-5660, telephone number: (703) 696-4358.

SUPPLEMENTARY INFORMATION: This notice of meeting is provided in accordance with the provisions of the Federal Advisory Committee Act (5 U.S.C. App. 2). Members of the public should submit their comments one week in advance of the meeting to the meeting Point of Contact. In order to maintain the meeting time schedule, members of the public will be limited in their time to speak to the Panel. The purpose of this meeting is to discuss NOPP activities. The meting will include discussions on ocean observations, current and future NOPP activities, and other current issues in the ocean sciences community.

Dated: August 8, 2000.
J.L. Roth,
Lieutenant Commander, Judge Advocate General's Corps, U.S. Navy, Federal Register Liaison Officer.

[FR Doc. 00-21063 Filed 8-17-00; 8:45 am]

BILLING CODE 3810-FF-P